FEDERAL MARITIME COMMISSION

Notice of Agreements Filed

The Commission hereby gives notice of the filing of the following agreements under the Shipping Act of 1984. Interested parties may obtain copies of agreements by contacting the Commission's Office of Agreements at 202-523-5793 or via e-mail at tradeanalysis@fmc.gov. Interested parties may submit comments on an agreement to the Secretary, Federal Maritime Commission, Washington, DC 20573, within 10 days of the date this notice appears in the Federal Register.

Agreement No.: 011453-005.

Title: Southern Africa/Oceania Agreement.

Parties: A.P. Moller-Maersk A/S; Mediterranean Shipping Co., S.A.; and Safmarine Container Lines N.V.

Filing Party: Wayne R. Rohde, Esq., Sher & Blackwell, 1850 M Street, NW., Suite 900, Washington, DC 20036.

Synopsis: The agreement deletes Australia, New Zealand and other islands of Oceania from the geographic scope of the agreement.

Agreement No.: 011689-009.

Title: Zim/CSCL Space Charter Agreement.

Parties: China Shipping Container Lines Co., Ltd. and China Shipping Container Lines (Hong Kong) Co., Ltd. (“CSCL”); and Zim Integrated Shipping Service, Ltd. (“Zim”).

Filing Party: Wayne R. Rohde, Esq., Sher & Blackwell, LLP, 1850 M Street, NW., Suite 900, Washington, DC 20036.

Synopsis: The amendment extends the duration of the agreement, adds a slot swap between one leg of Zim's AMP service and CSCL's ANW service, revises provisions dealing with equipment sizes, and deletes provisions relating to certain defaults, dry docking, and omission of ports.

Agreement No.: 011898.

Title: APS Joint Service Agreement.

Parties: BBC Chartering & Logistic GmbH & Co. KG (“BBC”), Clipper Elite Carriers Ltd. (“Clipper”) and Asia Project Services Ltd. (“APS”).

Filing Party: C. Jonathan Benner, Esq. and Matthew Thomas, Esq., Troutman Sanders LLP, 401 9th Street, NW., Suite 1000, Washington, DC 20004-2134.

Synopsis: The subject agreement would permit BBC and Clipper to establish a joint service, APS, in the trade between United States' ports and ports in Asia, Australia, and New Zealand.

By Order of the Federal Maritime Commission.
Dated: January 28, 2005.
Bryant L. VanBrakle,
Secretary.

[FR Doc. 05-1959 Filed 2-1-05; 8:45 am]

BILLING CODE 6730-01-P